DEPARTMENT OF THE INTERIOR

National Park Service

Notice of Intent to Repatriate a Cultural Item: Minnesota Museum of American Art, St. Paul, MN

AGENCY: National Park Service, Interior.

ACTION: Notice.

Notice is here given in accordance with the Native American Graves Protection and Repatriation Act (NAGPRA), 25 U.S.C. 3005, of the intent to repatriate a cultural item in the possession of the Minnesota Museum of American Art, St. Paul, MN, that meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural item. The National Park Service is not responsible for the determinations in this notice.

The one cultural item is a clan hat, Xixch'i S'aaxw (Frog Hat), of the Kiks.ádi people of the Sheet'iká. The clan hat (#57.14.08), is estimated to have been made in the 19th century and is composed of polychrome alder wood, sea lion whiskers, beads, and yarn; it is 4⅝ inches high x 14⅛ inches long x 7⅝ inches wide. The clan hat is carved in a “jockey cap” form; the frog on the skull of the hat is in low raised relief, painted blue, red, and black; and originally had inlaid abalone shells to represent the eyes. The bill of the hat is ochre, decorated with sea lion whiskers and bead and yarn pendants. This clan hat depicts the time of Russian contact.

The hat was purchased by the Minnesota Museum of American Art in 1957 from the Portland Art Museum, Portland, OR, and listed as #48.3.724,2678 of the Portland Art Museum's Rasmussen collection. The Portland Museum lists the work as being purchased from Mrs. Billy Williams, but the Rasmussen collection was developed by Mr. Axel Rasmussen who was superintendent of schools in Skagway, AK. It is unclear if there is an association between Mrs. Williams and Mr. Rasmussen.

Representatives of the Central Council of the Tlinglit & Haida Indian Tribes, specifically of the Kiks.ádi Clan, have identified this hat as an object of cultural patrimony that is a vital part of their ongoing ceremonial rites and central to their scared beliefs, and no single individual could sell or alienate the clan hat. The clan hat is one of the most significant objects a clan can have and usually depicts the main crest of the clan, or one of their crests they are entitled to use, which has both social and religious significance. Clan hats serve to unify clan members, tie present-day clan members to their shuká, ancestral clan members, and link the clan member to the animal crest depicted thereon or the story connected with the hat.

Officials of the Minnesota Museum of American Art have determined that, pursuant to 25 U.S.C. 3001 (3)(D), the cultural item described above has ongoing historical, traditional, or cultural importance central to the Native American group or culture itself, rather than property owned by an individual. Officials of the Minnesota Museum of American Art also have determined that, pursuant to 25 U.S.C. 3001 (2), there is a relationship of shared group identity that can be reasonably traced between the object of cultural patrimony and the Central Council of the Tlinglit & Haida Indian Tribes.

Representatives of any other Indian tribe that believes itself to be culturally affiliated with this object of cultural patrimony should contact Eunice Haugen, Registrar and Exhibits Coordinator, Minnesota Museum of American Art, 50 West Kellogg Boulevard, Suite 341, St. Paul, Minnesota 55102, telephone 651-266-1033, before April 13, 2006. Repatriation of the object of cultural patrimony to the Central Council of the Tlinglit & Haida Indian Tribes may proceed after that date if no additional claimants come forward.

The Minnesota Museum of American Art is responsible for notifying Central Council of the Tlinglit & Haida Indian Tribes that this notice has been published.

Dated: February 15, 2006.
C. Timothy McKeown,
Acting Manager, National NAGPRA Program.

[FR Doc. E6-3551 Filed 3-13-06; 8:45 am]

BILLING CODE 4312-50-S